FEDERAL MARITIME COMMISSION

Ocean Transportation Intermediary License; Rescission of Order of Revocations

Notice is hereby given that the Order revoking the following licenses are being rescinded by the Federal Maritime Commission pursuant to section 19 of the Shipping Act of 1984 (46 U.S.C. app. 1718) and the regulations of the Commission pertaining to the licensing of Ocean Transportation Intermediaries, 46 CFR part 515.

License Number : 018694NF.

Name: Global Parcel System LLC.

Address: 8304 Northwest 30th Terrace, Miami, FL 33122.

Order Published : FR: 06/28/06 (Volume 71, No.124, Pg. 36799).

License Number: 005820N.

Name: Ren International Services, Inc.

Address: 860 East Carson Street, #114, Carson, CA 90745.

Order Published: FR: 08/9/06 (Volume 71, No. 153, Pg. 45566).

Peter J. King,
Deputy Director, Bureau of Certification and Licensing.

[FR Doc. E6-15875 Filed 9-26-06; 8:45 am]

BILLING CODE 6730-01-P